FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than February 18, 2021.

A. Federal Reserve Bank of Kansas City (Dennis Denney, Assistant Vice President) 1 Memorial Drive, Kansas City, Missouri 64198-0001:

1. The Michael Stephens Leonard Second Amended and Restated Revocable Trust, Mike Leonard as trustee, the Amended and Restated Ginger Batson Trust, Ginger Batson as trustee, Carsen Lamont, Courtney Michelle Lamont, and a minor child, all of Muskogee, Oklahoma; and The Amy N. Bennett Revocable Trust Agreement, Amy Bennett, individually and as trustee, and minor children, all of Bixby, Oklahoma; to form the Leonard Family Group, a group acting in concert to acquire voting shares of Stigler Bancorporation, Inc., and thereby indirectly acquire voting shares of The First National Bank of Stigler, both of Stigler, Oklahoma.

Board of Governors of the Federal Reserve System, January 29, 2021.
Michele Taylor Fennell,
Deputy Associate Secretary of the Board.

[FR Doc. 2021-02237 Filed 2-2-21; 8:45 am]

BILLING CODE P